DEPARTMENT OF THE TREASURY

Internal Revenue Service

26 CFR Part 1

Income Taxes

CFR Correction

In Title 26 of the Code of Federal Regulations, part 1 (§ 1.1551 to end), revised as of April 1, 2005, on page 526, in § 1.6696-1, paragraph (b), the third sentence is corrected by removing “rified”, and adding in its place, “Thus, the claim may be prepared by the preparer's employer or by other persons. In all cases, however, the claim for credit or refund shall contain the information specified in paragraph (d) of this section and, as required in that paragraph, shall be verified”.

[FR Doc. 06-55511 Filed 3-9-06; 8:45 am]

BILLING CODE 1505-01-D